POSTAL REGULATORY COMMISSION

Sunshine Act Meetings

Federal Register Citation of Previous Announcement: 75 FR 37161 (June 24, 2011).

CHANGES IN THE MEETING: An item has been added to the closed portion of the meeting: Item 9—Personnel—discussion of the impact of an employment action on EEO reporting.

CONTACT PERSON FOR MORE INFORMATION: Stephen L. Sharfman, General Counsel, 202-789-6820.

Dated: June 24, 2011.
By the Commission.
Shoshana M. Grove,
Secretary.

[FR Doc. 2011-16697 Filed 6-29-11; 11:15 am]

BILLING CODE 7710-FW-P